INTERNATIONAL TRADE COMMISSION

[USITC SE-22-045]

Sunshine Act Meetings

AGENCY HOLDING THE MEETING: United States International Trade Commission.

TIME AND DATE: November 4, 2022 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. No. 731-TA-1313 (Review) (Ferrovanadium from South Korea). The Commission currently is scheduled to complete and file its determination and views on November 15, 2022.

5. Commission vote on Inv. Nos. 701-TA-563 and 731-TA-1331-1333 (Review) (Finished Carbon Steel Flanges from India, Italy, and Spain). The Commission currently is scheduled to complete and file its determinations and views of the Commission on November 15, 2022.

6. Outstanding action jackets: none.

CONTACT PERSON FOR MORE INFORMATION: William Bishop, Supervisory Hearings and Information Officer, 202-205-2595.

The Commission is holding the meeting under the Government in the Sunshine Act, 5 U.S.C. 552(b). In accordance with Commission policy, subject matter listed above, not disposed of at the scheduled meeting, may be carried over to the agenda of the following meeting.

By order of the Commission.
Issued: October 25, 2022.
William Bishop,
Supervisory Hearings and Information Officer.

[FR Doc. 2022-23590 Filed 10-26-22; 11:15 am]

BILLING CODE 7020-02-P